INTERNATIONAL TRADE COMMISSION

[Investigations Nos. 731-TA-1084-1087 (Final)]

Purified Carboxymethylcellulose From Finland, Mexico, The Netherlands, and Sweden

Determinations

On the basis of the record ¹ developed in the subject investigations, the United States International Trade Commission (Commission) determines, pursuant to section 735(b) of the Tariff Act of 1930 (19 U.S.C. 1673d(b)) (the Act), that an industry in the United States is materially injured by reason of imports from Finland, Mexico, the Netherlands, and Sweden of purified carboxymethylcellulose, provided for in subheading 3912.31.00 of the Harmonized Tariff Schedule of the United States, that have been found by the Department of Commerce (Commerce) to be sold in the United States at less than fair value (LTFV).²

¹ The record is defined in sec. 207.2(f) of the Commission's Rules of Practice and Procedure (19 CFR 207.2(f)).

² Commissioner Daniel R. Pearson made negative determinations with respect to all subject countries.

Background

The Commission instituted these investigations effective June 9, 2004, following receipt of a petition filed with the Commission and Commerce by Aqualon Co., a division of Hercules, Inc., Wilmington, DE. The final phase of these investigations was scheduled by the Commission following notification of a preliminary determination by Commerce that imports of purified carboxymethylcellulose from Finland, Mexico, the Netherlands, and Sweden were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of January 10, 2005 (70 FR 1740). The hearing was held in Washington, DC, on May 12, 2005, and all persons who requested the opportunity were permitted to appear in person or by counsel.

The Commission transmitted its determinations in these investigations to the Secretary of Commerce on June 30, 2005. The views of the Commission are contained in USITC Publication 3787 (June 2005), entitled Purified Carboxymethylcellulose from Finland, Mexico, the Netherlands, and Sweden: Investigations Nos. 731-TA-1084-1087 (Final).

By order of the Commission.
Issued: June 30, 2005.
Marilyn R. Abbott,
Secretary to the Commission.

[FR Doc. 05-13392 Filed 7-6-05; 8:45 am]

BILLING CODE 7020-02-P